DEPARTMENT OF TRANSPORTATION

Federal Aviation Administration

Notice to Manufacturers of Airport Lighting and Navigation Aid Equipment

AGENCY: Federal Aviation Administration (FAA), US DOT.

ACTION: Notice to manufacturers of airport lighting and navigation aid equipment.

SUMMARY: Projects funded under the Airport Improvement Program (AIP) must meet the requirements of 49 U.S.C. 50101, Buy American Preferences. The Federal Aviation Administration (FAA) is considering issuing waivers to foreign manufacturers of certain airport lighting and navigation aid equipment that is lit with Light Emitting Diode (LED) lighting. This notice requests information from manufacturers of systems meeting the technical requirements to determine whether a waiver to the Buy American Preferences should be issued.

FOR FURTHER INFORMATION CONTACT: Ms. Nancy S. Williams, Airports Financial Assistance, APP 501, Room 619, FAA, 800 Independence Avenue SW., Washington, DC 20591, Telephone (202) 267-3831.

SUPPLEMENTARY INFORMATION: The Federal Aviation Administration (FAA) manages a federal grant program for airports called the Airport Improvement Program (AIP). AIP grant recipients must follow 49 U.S.C. 50101, Buy American Preferences.

Under 49 U.S.C. 50101(b)(3), the Secretary of Transportation may waive the Buy American Preference requirement if the goods are not produced in a sufficient and reasonably available amount or are not of a satisfactory quality.

The purpose of this notice is to request manufacturers of L-850A, L850B, L852K, and L852S LED airport lighting equipment, LED Runway End Identified Lighting (REIL) equipment, and LED Precision Approach Path Indicator (PAPI) equipment, both domestic and foreign, to advise FAA of the system that they manufacture and whether it can meet the FAA Advisory Circular technical requirements. The detailed instructions for submitting the qualifications statement, including forms, may be found on the FAA Web site at: http://www.faa.gov/airports/aip/procurement/federal_contract_provisions/at the tab entitled, Airport Lighting and Navigation Aid Equipment Request For Qualifications. The FAA wants to determine if there is sufficient quantity of domestic manufacturers capable of meeting the FAA technical requirements. If the FAA cannot find that there are USA manufacturers, it will issue a nationwide waiver to the foreign manufacturers identified as being capable of meeting the technical requirements.

Technical Requirements: FAA Advisory Circular (AC) 150/5345-46D, Specification for Runway and Taxiway Light Fixtures provides the technical requirements for the L-850A, L-850B, L-852K and L-852S lighting equipment. FAA Advisory Circular 150/5345-51B, Specifications for Discharge-Type Flashing Light Equipment, provides the technical requirements for the REILs. FAA Advisory Circular 150/5345-28G, Precision Approach Path Indicator (PAPI) Systems, provides the technical requirements for the PAPI equipment.

After review, the FAA may issue a nationwide waiver to Buy American Preferences for foreign manufacturers or United States manufacturers that do not meet the Buy American Preference requirements. Waivers will not be issued for manufacturers that do not fully meet the technical requirements. This “nationwide waiver” allows equipment to be used on airport projects without having to receive separate project waivers. Having a nationwide waiver allows projects to start quickly without have to wait for the Buy American analysis to be completed for every project, while still assuring the funds used for airport projects meet the requirements of the Act.

Items that have been granted a “nationwide waiver” can be found on the FAA Web site at: http://www.faa.gov/airports/aip/procurement/federal_contract_provisions/at the tab entitled, Equipment Meeting Buy American Requirements.

Issued in Washington, DC on December 7, 2011.
Frank J. San Martin,
Manager, Airports Financial Assistance Division.

[FR Doc. 2011-31993 Filed 12-12-11; 8:45 am]

BILLING CODE;P